DEPARTMENT OF THE INTERIOR

National Park Service

National Register of Historic Places; Notification of Pending Nominations

Nominations for the following properties being considered for listing in the National Register were received by the National Park Service before March 2, 2002. Pursuant to § 60.13 of 36 CFR part 60 written comments concerning the significance of these properties under the National Register criteria for evaluation may be forwarded by United States Postal Service, to the National Register of Historic Places, National Park Service, 1849 C St. NW, NC400, Washington, DC 20240; by all other carriers, National Register of Historic Places, National Park Service, 800 N. Capitol St. NW., Suite 400, Washington DC 20002; or by fax, 202-343-1836. Written or faxed comments should be submitted by April 10, 2002.

Carol D. Shull,
Keeper of the National Register of Historic Places.

CALIFORNIA

Alameda County

Remar Bakery, 1010 46th St., Emeryville, 02000328

Humboldt County

Washington School, 1910 California St., Eureka, 02000329

Los Angeles County

Broadway Theatre and Commercial District (Boundary Increase), 242, 248-260, 249-259, 900-911, 908-910, 921-937, 930-947 S. Broadway, Los Angeles, 02000330

CONNECTICUT

Fairfield County

Gores, Landis, House, 192 Cross Ridge Rd., New Canaan, 02000331

Hartford County

Erwin Home for Worthy and Indigent Women, 140 Bassett St., New Britain, 02000332

Litchfield County

Benedict, Francis Jr., House, 85 N. Colebrook Rd., Norfolk, 02000333

Esperanza, 511 Town Hill Rd., New Hartford, 02000334

New Haven County

Canoe Brook Historic District, Roughly along Bradley St., Cherry Hill Rd., Home Place, Lincoln Ave., Main and N. Harbor Sts., Branford, 02000335

East Haven Green Historic District, 263, 270, 274 Hemingway Ave., 125, 129, 133, 139, 143, 150 Main St., 3, 7, 11, 15, 23, 27, 39, 47 Park Pl. & 58, 100 River St., East Haven, 02000336

New London County

Quaker Hill Historic District, Roughly along Old Norwich Rd. from Richards Grove Rd. to Mohegan Ave. Pkwy., Waterford, 02000337

GEORGIA

Bibb County

Cherokee Brick and Tile Company, 3250 Waterville Rd., Macon, 02000338

Coweta County

Newnan Cotton Mill and Mill Village Historic District, Roughly bounded by E. Washington, Wilcoxen and Farmer Sts., and CSX RR., Newnan, 02000339

Warren County

Warrenton Downtown Historic District, Roughly centered on jct. of Main and Depot Sts., Warrenton, 02000340

KENTUCKY

Boone County

Crisler—Crisler Mounds Site, Address Restricted, Hebron, 02000341

Logan County

Cedar Grove Rosenwald School, 375 Cedar Grove Rd., Olmstead, 02000342

Madison County

Berea College Forest, KY 21, 2 mi. E. of Berea College campus, Berea, 02000343

Mercer County

Froman—McCann House, 532 Bailey Pike, Harrodsburg, 02000344

Nelson County

Johnson, Silvester, House and Business, 151-153 N. Main St., New Haven, 02000345

MAINE

Androscoggin County

Penney, Samuel, House, 78 Maple St., Mechanics Falls, 02000346

Franklin County

Coburn, John G., 360 River Rd., Carthage, 02000347

Kennebec County

Powder House Lot, High St., 1/4 mi. S. of jct. with Winthrop St., Hallowell, 02000348

Piscataquis County

Breakwater, The, S. tip of Kineo Is., W. side of Kineo Cove (Kineo Township), Rockwood, 02000349

Waldo County

Tranquility Grange No. 344, 1 mi. N. of jct. ME 52 and ME 173, Lincolnville Center, 02000350

Washington County

Boynton High School, Former, 78 High St., Eastport, 02000351

York County

Welch, Andrew, Homestead, 1286 Middle Rd., Parsonsfield, 02000352

MARYLAND

Montgomery County

Salmon—Stohlman House, 4728 Dorset Ave., Chevy Chase, 02000353

MISSISSIPPI

Oktibbeha County

Outlaw, Dossey A., Plantation, 2173 Oktoc Rd., Starkville, 02000354

MISSOURI

Benton County

Central Cole Camp Historic District, (Cole Camp, Missouri MPS) Roughly consists of the 100 blks. of E and W Main St., most of Maple St., 105 E. Butterfield, 106 N Olive, 107 N Boonville-Cole Camp, 02000355

Cape Girardeau County

Marquette Hotel, 338 Broadway St., Cape Girardeau, 02000356

Ste. Genevieve County

Ste. Genevieve Historic District, (Ste. Genevieve, Missouri MPS) Roughly bounded by Main St. and St. Mary's Rd., Roberts, 7th, and Seraphin Sts., Ste. Genevieve, 02000357

NEW YORK

Columbia County

Van Valkenburgh, James G. House, 31 Co. Rd. 13, Chatham, 02000358

Montgomery County

West Hill School, 3 Otsego St., Canajoharie, 02000359

New York County

Sugar Hill Historic District, Roughly bounded by W. 155th St., 145th St., Bradhurst Ave. and Convent Ave., New York, 02000360

Suffolk County

First Congregational Church of New Village, N. side of Middle Country Rd. W. of Elliot Ave., Lake Grove, 02000361

VIRGINIA

Albemarle County

Advance Mills, Jct. VA 743 and VA 641, Advance Mills, 02000362

Bath County

Mustoe House, Rt. 2, Box 211, Hot Springs, 02000363

Richmond Independent City

Barton Heights Cemeteries, 1600 Lamb Ave., Richmond (Independent City), 02000364

Carver Residential Historic District, 700-1500 blks. W. Leigh, 700-1400 blks. W. Catherine, Clay, & Marshall, Richmond (Independent City), 02000365

Chestnut Hill—Plateau Historic District, 1st, 2nd, 3rd, 4th and 5th Aves. from Brooklyn Park Blvd. to Trigg St., Richmond, 02000366

Smyth County

Saltville Historic District, Main St., 1st Ave., Palmer Ave, Palmer Ln., Stadium Dr., and Henrytown Rd. Saltville, 02000367

Waynesboro Independent City

Port Republic Road Historic District, Alpha, Beta, Elkton Sts., Fairview Ave., Fontaine St., Minden Pl., Port Republic Rd., Riverside Dr. and Shiloh Ave., Waynesboro (Independent City), 02000368

Tree Streets Historic District, Roughly bounded by Pine Ave., Eleventh St., S. Wayne Ave., 16th St., and Oak Ave., Waynesboro (Independent City), 02000369

WISCONSIN

Waupaca County

Main Street Historic District, Roughly along S. and N. Main Sts. from W. Union to Granite Sts., Waupaca, 02000370

A request for a MOVE has been for the following Resources: The Boone County Clerk's Building within the

KENTUCKY

Boone County

Burlington Historic District, KY 18, Burlington, 79000961

WISCONSIN

Dane County

Brittingham Park Boathouse, N. Shore Dr., Madison, 82000649

[FR Doc. 02-7250 Filed 3-25-02; 8:45 am]

BILLING CODE 4310-70-P